DEPARTMENT OF AGRICULTURE

Rural Business-Cooperative Service

[Docket No. RBS-22—Business-0021]

Notice of Solicitation of Applications for the Rural Business Development Grant Programs for Fiscal Year 2023; Correction

AGENCY: Rural Business-Cooperative Service, USDA.

ACTION: Notice, correction.

SUMMARY: The Rural Business-Cooperative Service (RBCS or the Agency), an agency of the United States Department of Agriculture (USDA), published a Notice of Solicitation of Applications (NOSA) in the Federal Register (FR) on November 23, 2022, entitled Notice of Solicitation of Applications for the Rural Business Development Grant Programs for Fiscal Year 2023 to announce that it was accepting applications for Fiscal Year (FY) 2023 and the availability of approximately $46,000,000 in competitive grants. In addition, the NOSA described requirements that are determined at the time a funding announcement is published, as outlined in the program regulation. This notice will amend Section D.5 of the NOSA to clarify that Intergovernmental Review under Executive Order 12372 is required for this program.

DATES: Complete applications may be submitted in paper or electronic format and must be received by 4:30 p.m. local time on February 28, 2023, in the USDA Rural Development (RD) State Office for the State where the project is located. A list of the USDA RD State Offices can be found at: https://www.rd.usda.gov/about-rd/state-offices.

FOR FURTHER INFORMATION CONTACT: Lisa Sharp at lisa.sharp@usda.gov, or Cindy Mason at cindy.mason@usda.gov, or call (202) 720-1400.

SUPPLEMENTARY INFORMATION:

Amendments

The following amendment is being made to FR Doc 2022-25532, published on November 23, 2022 (87 FR 71571), to specify that the Intergovernmental Review under Executive Order 12372 is required for this program. On page 71573, column 2, under Section D “Application and Submission Information,” subsection 5 “Intergovernmental Review,” the paragraph should be amended and restated in its entirety to read as follows:

Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency or you may provide evidence that the State has elected not to review the program under Executive Order 12372. Applications from Federally recognized Indian Tribes are not subject to this requirement.

Karama Neal,
Administrator, Rural Business-Cooperative Service, USDA Rural Development.

[FR Doc. 2022-27567 Filed 12-19-22; 8:45 am]

BILLING CODE 3410-XY-P